DEPARTMENT OF LABOR

Comment Request for Information Collection for Unemployment Compensation for Ex-Servicemembers (UCX) Handbook; Extension Without Change

AGENCY: Employment and Training Administration.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the extension of the Unemployment Compensation for Ex-Servicemembers (UCX) Handbook, Number 384.

A copy of the proposed information collection request (ICR) can be obtained by contacting the office listed below in the addressee section of this notice or by accessing: http://www.doleta.gov/OMBCN/OMBControlNumber.cfm.

DATES: Written comments must be submitted to the office listed in the addressee's section below on or before July 20, 2009.

ADDRESSES: Submit written comments to Keith Ribnick, Office of Workforce Security, Room S-4231, Employment and Training Administration, 200 Constitution Avenue, NW., Washington, DC 20210. Telephone 202-693-3223 (this is not a toll-free number). Fax 202-693-3975.

SUPPLEMENTARY INFORMATION: I. Background: The UCX law (5 U.S.C. 8521-8525) requires SWAs to administer the UCX program in accordance with the same terms and conditions of the paying state's unemployment insurance law which apply to unemployed claimants who worked in the private sector. Each state agency needs to obtain certain military service information on claimants filing for UCX benefits to enable the state to determine their eligibility for benefits. As needed, state agencies may record or obtain required UCX information on the form developed by the Department of Labor, ETA 843, Request for Military Document and Information. The use of this form may be essential to the UCX claims process. Form ETA 841, Request for Determination of Federal Military Service and Wages, is no longer used by most states; it has become an optional form.

Information pertaining to the UCX claimant can only be obtained from the individual's military discharge papers, the appropriate branch of military service or the Department of Veterans' Affairs (formerly the Veterans' Administration). Without the claimant's military information, the state cannot adequately determine the UCX eligibility of ex-servicemembers and would not be able to properly administer the program.

II. Review Focus: The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions:

Type of Review: Extension without changes.

Title: Unemployment Compensation for Ex-Servicemembers Handbook; Comment Request.

OMB Number: 1205-0176.

Affected Public: Federal Government, State Workforce Agencies and individuals.

Form: Handbook 384; ETA 841, ETA 843.

Total Respondents: 1.

Frequency: As needed.

Total Responses: 5,297.

Average Time per Response: 1 minute.

Estimated Total Burden Hours: 88.28.

Total Burden Cost: $0.

Comments submitted in response to this comment request will be summarized and/or included in the request for Office of Management and Budget approval of the information collection request; they will also become a matter of public record.

Dated: Friday, May 15, 2009.
Cheryl Atkinson,
Administrator, Office of Workforce Security, Employment and Training Administration.

[FR Doc. E9-11893 Filed 5-20-09; 8:45 am]

BILLING CODE 4510-FW-P